DEPARTMENT OF ENERGY

Bonneville Power Administration

Rebuild of the Libby (FEC) to Troy Section of BPA's Libby to Bonners Ferry 115-kilovolt Transmission Line

AGENCY: Bonneville Power Administration (BPA), Department of Energy (DOE).

ACTION: Notice of intent to prepare an Environmental Impact Statement (EIS).

SUMMARY: BPA intends to prepare an EIS on the proposed rebuilding, operation, and maintenance of a 17-mile-long portion of BPA's Libby to Bonners Ferry 115-kilovolt (kV) Transmission Line in Lincoln County, Montana. The portion to be rebuilt would start at Flathead Electric Cooperative's (FEC) Libby Substation, in the town of Libby, Montana, and proceed west along an existing right-of-way for about 17 miles, terminating at BPA's Troy Substation just east of the town of Troy, Montana. The line would be rebuilt mostly on existing right-of-way, and would replace an existing 115-kV wood pole line. The EIS is being prepared for the proposed project in accordance with the National Environmental Policy Act (NEPA) and in accordance with DOE regulations.

DATES: Written comments on the NEPA scoping process are due to the address below no later than June 6, 2005. Comments may also be made at two EIS scoping meetings to be held on May 19, 2005, at the address below.

ADDRESSES: Send letters with comments and suggestions on the proposed scope of the Draft EIS to Bonneville Power Administration, Communications—DM-7, P.O. Box 14428, Portland, Oregon 97293-4428; FAX them to 503-230-3285; or submit your comments on-line at: http://www.bpa.gov/comment/. To be placed on the project mail list, call 1-888-276-7790.

Comments may also be made at EIS scoping meetings to be held on Thursday, May 19, 2005, from 2 p.m. to 4 p.m., and from 6 p.m. to 8 p.m., in conference rooms A, B, & C at the Kootenai National Forest Supervisor's Office, 1101 Highway 2 West, Libby, Montana. At these informal open-house meetings, we will provide a brief introduction of the proposed project during the first 15 minutes. We will then provide maps and information about the project, have several members of the project team available to answer questions, and accept oral and written comments.

FOR FURTHER INFORMATION CONTACT: Kirk Robinson, Project Manager, Bonneville Power Administration—TNP-TPP-3, P.O. Box 61409, Vancouver, Washington 98666-1409; toll-free telephone 1-800-282-3713; direct telephone 360-619-6301; or e-mail kmrobinson@bpa.gov. You may also contact Tish Eaton, Environmental Coordinator, Bonneville Power Administration—KEC-4, P.O. Box 3621, Portland, Oregon 97208-3621; telephone 503-230-3469; fax 503-230-5699; or e-mail tkeaton@bpa.gov. Information about the project can also be found at http://www.efw.bpa.gov.

SUPPLEMENTARY INFORMATION: BPA is proposing to rebuild a 17-mile-long section of BPA's Libby to Bonners Ferry 115-kV transmission line. This rebuild would replace an existing 115-kV wood pole transmission line that runs west from FEC's Libby Substation in the town of Libby, to BPA's Troy Substation, east of Troy, Montana. The proposed rebuild would be located primarily in BPA's existing right-of-way corridor with two potential re-routings—one to avoid immediately adjacent residences in the town of Libby, and the other at a river crossing prior to a washout at China Creek, approximately one-half mile east of the present crossing of the Kootenai River. The project is needed to continue to provide safe and reliable service to the local communities, and in anticipation of the future growth of the area.

The Libby (FEC) to Troy section of the Libby to Bonners Ferry transmission line was originally built by Pacific Power & Light Company (PP&L) in the 1950's. The condition of the Libby (FEC) to Troy section of the line has been deteriorating over the years to the point where a major rebuilding of the H-frame wood pole line is needed to continue serving customer loads safely and reliably. Field reconnaissance surveys of the line during the summer of 2004 showed that many of the wooden poles and cross-arms have passed their ability to withstand required structural loads, including stresses caused by snow and ice build-up during winter. Also, serious problems with the conductor have been discovered. In the last two years, BPA transmission line maintenance crews have provided “fixes” for critical situations to prevent the line from failing completely, but these fixes are meant to be only temporary, and they do not provide a complete long-term solution to the existing structural and conductor problems with the line.

This proposed project was originally considered by BPA in 1993-1994, as part of the Northwest Montana/North Idaho Support Project. The proposal at that time was to build a 230-kV double-circuit transmission line from BPA's substation at Bonners Ferry to Libby Substation, owned at the time by PP&L. The project was scoped with the public, comments were incorporated into the proposal, and environmental analysis was done. A preliminary draft EIS was in preparation when the project was cancelled for fiscal reasons.

Alternatives Proposed for Consideration. Based on information gathered during the previous environmental evaluation, and from current and potential load growth studies for the area, BPA currently is considering four alternatives for evaluation in the EIS: (1) Rebuilding the line in-kind, as a single-circuit 115-kV wood pole H-frame line with some wood-pole equivalent steel poles; (2) rebuilding the line as a double-circuit 115-kV tubular steel pole line; (3) rebuilding the line as a double-circuit 230-kV tubular steel pole line; and (4) the alternative of not rebuilding the line (an alternative BPA always considers). Other alternatives may be identified through the scoping process.

Public Participation and Identification of Environmental Issues. BPA has established a 30-day scoping period during which affected landowners, concerned citizens, special interest groups, local governments, and any other interested parties are invited to comment on the scope of the proposed EIS. Scoping will help BPA ensure that a full range of environmental issues related to this proposal is addressed in the EIS, and also will help identify significant or potentially significant impacts that may result from the proposed project.

The potential environmental issues identified for most transmission projects include: land use, cultural resources, visual resources, sensitive plants and animals, recreation use, erosion concerns, and fish and water resources. The Draft EIS for the proposed project will address these issues, as well as other environmental issues raised during the public scoping process. When completed, the Draft EIS will be circulated for review and comment, and BPA will hold public meetings to receive comments on the Draft EIS. BPA will consider and respond in the Final EIS to comments received on the Draft EIS. BPA's decision will be documented in a Record of Decision. The EIS will satisfy the requirements of NEPA.

Issued in Portland, Oregon, on April 28, 2005.
Stephen J. Wright,
Administrator and Chief Executive Officer.

[FR Doc. 05-8996 Filed 5-4-05; 8:45 am]

BILLING CODE 6450-01-P